DEPARTMENT OF THE INTERIOR

Fish and Wildlife Service

Environmental Assessment and Receipt of an Application for a Permit To Enhance the Survival of the Fluvial Arctic Grayling in the Upper Big Hole River in Southwestern Montana Through an Umbrella Candidate Conservation Agreement With Assurances

AGENCY: Fish and Wildlife Service, Interior.

ACTION: Notice of availability and receipt of application.

SUMMARY: Montana Fish, Wildlife and Parks (FWP) has applied to the Fish and Wildlife Service (Service) for an Enhancement of Survival Permit for the fluvial Arctic grayling (Thymallus arcticus) pursuant to section 10(a)(1)(A) of the Endangered Species Act of 1973, as amended (ESA). The permit application includes a proposed Umbrella Candidate Conservation Agreement with Assurances (Agreement) between the FWP and the Service. The USDA Natural Resources Conservation Service (NRCS) and Montana Department of Natural Resources and Conservation (DNRC) also are signatories for the proposed Agreement. The Agreement, the permit application, and the Environmental Assessment are made available for public comment by this notice.

The purpose of the Agreement is for private landowners and the FWP, NRCS, DNRC, and the Service to implement conservation measures for the fluvial Arctic grayling in the upper Big Hole River in southwestern Montana. The effort is in support of the FWP's ongoing efforts to enhance the abundance and distribution of the fluvial Arctic grayling throughout its historic range in the upper Missouri River basin. The conservation measures would be implemented by FWP, NRCS, DNRC, the Service, and by participating landowners. A technical working group comprised of FWP, NRCS, DNRC, and the Service developed the conservation measures for the proposed Agreement. Consistent with the Service's Candidate Conservation Agreement with Assurances Final Policy (CCAA Policy) (64 FR 32726, June 17, 1999), the Agreement is intended to facilitate the conservation of fluvial Arctic grayling by giving the State of Montana and cooperating private landowners incentives to implement conservation measures. Participating Landowners would receive regulatory certainty concerning land and water use restrictions that might otherwise apply should the fluvial Arctic grayling become listed under the ESA. Participating Landowners with eligible property in the upper Big Hole River watershed in southwestern Montana could sign up under the Agreement and the associated permit through site-specific plans for their property and a Certificate of Inclusion. The proposed term of the Agreement and the permit is 20 years.

The Service and FWP have prepared a joint Environmental Assessment for execution of the Agreement and issuance of the permit pursuant to the National Environmental Policy Act (for the Service) and implementation of the Agreement pursuant to the Montana Environmental Policy Act (for FWP). The environmental assessment considers the biological, environmental, and socioeconomic effects of the proposed Agreement and permit. The assessment also evaluates two alternatives to the Agreement and permit, and their potential impacts on the environment.

We request comments from the public on the permit application, draft Agreement, and draft Environmental Assessment. All comments we receive, including names and addresses, will become part of the administrative record and may be released to the public.

DATES: Written comments on the permit application must be received on or before January 23, 2006.

ADDRESSES: Written data or comments concerning the permit application, the draft Agreement, or the draft Environmental Assessment are to be submitted to Arctic Grayling CCAA, U.S. Fish and Wildlife Service, 100 North Park Avenue, Suite 320, Helena, Montana 59601. Written comments also may be provided electronically to fw6_arcticgrayling@fws.gov, or by facsimile to 406-449-5339. Comments must be submitted in writing to be considered in the Service's decision-making process.

FOR FURTHER INFORMATION CONTACT: Mark Wilson or Douglas Peterson at the above address, or telephone 406-449-5225.

SUPPLEMENTARY INFORMATION:

Document Availability

Persons wishing to review the permit application, Agreement, and the Environmental Assessment may obtain a copy by writing the Service's Montana Ecological Services office at the above address, or contacting the above office by telephone, electronic mail, or facsimile. You also may make an appointment to view the documents at the above address during normal business hours. The documents also are available electronically on the World Wide Web at http://mountain-prairie.fws.gov/species/fish/grayling/grayling.htm.

Background

Under a Candidate Conservation Agreement with Assurances, participating landowners voluntarily implement conservation activities on their properties to benefit species that are proposed for listing under the ESA, candidate species, or other sensitive species. Candidate Conservation Agreements with Assurances encourage private and other non-Federal property owners to implement conservation efforts and reduce threats to unlisted species by assuring them they will not be subjected to increased property-use restrictions if the species is listed in the future under the ESA. Application requirements and issuance criteria for enhancement of survival permits through CCAAs are found in 50 CFR 17.22(d) and 17.32(d).

On July 25, 1994, the Service found that listing the fluvial Arctic grayling of the upper Missouri River Distinct Population Segment (DPS) was warranted but precluded by higher priority listing actions, and it has remained on the Service's candidate species list since that time. Fluvial Arctic grayling currently occupy only about 5 percent of their historic range in the Missouri River basin above the Great Falls, and the remaining population is found in an approximately 129-kilometer (80-mile) segment of the upper Big Hole River in southwestern Montana. The fluvial Arctic grayling population in the Big Hole River has declined in abundance and distribution in recent years, and ongoing efforts by FWP to re-establish additional fluvial Arctic grayling in other rivers within its historic range have not yet produced any self-sustaining populations. This DPS remains at risk, and FWP and the Service carefully monitor the status of the species.

The Montana Fluvial Arctic Grayling Workgroup's 1995 Montana Fluvial Arctic Grayling Restoration Plan and the Service's 2004 Candidate Notice of Review have identified threats that contribute to the current and future status of the species. These include—habitat loss, fragmentation, and degradation caused by hydrologic alterations and stream dewatering from irrigation withdrawals, thermal loading, loss of riparian habitat, and cross-channel irrigation diversion structures; drought; entrainment in irrigation ditches; and encroachment by nonnative trout species. Most of the current and historic fluvial Arctic grayling habitat in the Big Hole River watershed is on or adjacent to private lands. The decline of fluvial Arctic grayling in the system has been attributed in part to agricultural activities on these lands, so the active involvement of private landowners in conservation efforts is viewed as critical to the preservation of the species.

Consequently, FWP has developed an Agreement for the fluvial Arctic grayling in cooperation with the NRCS, DNRC, and the Service; and has applied to the Service for a permit under section 10(a)(1)(A) of the ESA (16 U.S.C. 1531 et seq.), which would authorize future take of the fluvial Arctic grayling by FWP and cooperating landowners if and when the species is listed. The FWP and the Service believe approval of the Agreement is necessary to promote implementation of conservation measures on non-Federal lands.

The FWP and the Service believe implementation of the Agreement will increase the distribution and abundance of fluvial Arctic grayling in the Big Hole River, and will make a significant contribution to the long-term viability of the species. Without the Agreement, FWP and the Service are concerned that the population of fluvial Arctic grayling in the Big Hole River may continue to decline. Further decline of the species will increase the risk of its extirpation. The FWP and the Service believe that implementing proactive conservation measures in cooperation with private landowners prior to any potential ESA listing will realize greater conservation benefits for the species than post-listing actions.

Under the Agreement and permit, Participating Landowners would provide certain fluvial Arctic grayling habitat protection and/or enhancement measures on their lands. Protection and enhancement measures will be directed at improving habitat conditions for all age classes of fluvial Arctic grayling primarily by increasing instream flows, conserving or restoring riparian habitats, removing or mitigating for any man-made barriers to migration, and reducing threats from entrainment in irrigation ditches. If the fluvial Arctic grayling upper Missouri River DPS is listed under the ESA, and a Participating Landowner is properly implementing the agreed-to conservation measures, the permit would authorize take of fluvial Arctic grayling that may result from the non-Federal landowner's agricultural or ranching related activities (e.g., surface-water diversion and irrigation, hay cultivation and harvesting, livestock grazing, farm equipment operation) so long as they were being conducted according to the Agreement and the landowner's site-specific plan.

We are providing this notice pursuant to section 10(c) of the ESA and implementing regulations for the National Environmental Policy Act (40 CFR § 1506.6). We will evaluate the permit application, associated documents, and comments submitted thereon to determine whether the permit application meets the requirements of section 10(a)(1)(A) of the ESA, the Service's CCAA Policy and the National Environmental Policy Act. The Service also will evaluate whether the issuance of the permit and execution of the Agreement by the Service complies with section 7 of the ESA by conducting an intra-Service section 7 consultation on the issuance of the permit and execution of the permit. If we determine that all requirements are met, we will sign the Agreement and issue an enhancement of survival permit under section 10(a)(1)(A) of the ESA to the FWP for take of fluvial Arctic grayling incidental to otherwise lawful activities in accordance with the terms of the Agreement and the permit. We will not make our final decision until after the end of the 60-day comment period and after consideration of all comments received during the comment period.

Authority: The authority for this action is the Endangered Species Act of 1973, as amended (16 U.S.C. 1531 et seq.) and the National Environmental Policy Act of 1969, as amended (42 U.S.C. 4321 et seq.).

Dated: October 18, 2005.
Sharon R. Rose,
Acting Regional Director, Denver, Colorado.

[FR Doc. 05-23151 Filed 11-22-05; 8:45 am]

BILLING CODE 4310-55-P